SMALL BUSINESS ADMINISTRATION

[Disaster Declaration #12233 and #12234]

Montana Disaster Number MT-00056

AGENCY: U.S. Small Business Administration.

ACTION: Amendment 1.

SUMMARY: This is an amendment of the Presidential declaration of a major disaster for Public Assistance Only for the State of Montana (FEMA-1922-DR), dated 07/10/2010.

Incident: Severe storms and flooding.

Incident Period: 06/15/2010 and continuing.

DATES: Effective Date: 07/28/2010.

Physical Loan Application Deadline Date: 09/08/2010.

Economic Injury (EIDL) Loan Application Deadline Date: 04/11/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Montana, dated 07/10/2010, is hereby amended to include the following areas as adversely affected by the disaster.

Primary Counties: Chouteau.

All other information in the original declaration remains unchanged.

(Catalog of Federal Domestic Assistance Numbers 59002 and 59008)

James E. Rivera,
Associate Administrator for Disaster Assistance.

[FR Doc. 2010-19067 Filed 8-2-10; 8:45 am]

BILLING CODE 8025-01-P